ENVIRONMENTAL PROTECTION AGENCY

[FRL-9305-3]

State Program Requirements; Application for Program Revision to the National Pollutant Discharge Elimination System (NPDES) Program; Alaska

AGENCY: Environmental Protection Agency (EPA).

ACTION: Notice.

SUMMARY: EPA approved Alaska's National Pollutant Discharge Elimination System (NPDES) program application on October 31, 2008 pursuant to section 402 of the Clean Water Act (CWA or “the Act”). The approved State program, called the Alaska Pollutant Discharge Elimination System (APDES), includes an implementation plan that transfers the administration of specific program components from EPA to the Alaska Department of Environmental Conservation (ADEC) in four phases over a three year period from the date of program approval. Phases I-III have been transferred from EPA to ADEC. Transfer of the final phase, Phase IV, is currently scheduled for October 31, 2011. ADEC has made a submission for approval for a one year extension of the transfer of Phase IV of the APDES program, which includes oil and gas, cooling water intakes and dischargers, munitions and all other remaining facilities not previously transferred in Phases I-III. If EPA approves the APDES program revision, Phase IV will transfer to ADEC four years from the date of program approval, or October 31, 2012. Today, EPA is requesting comments on the proposed one year extension and is providing notice of a public hearing and comment period on the proposal. The EPA Region 10 Regional Administrator will either approve or disapprove the APDES program revision after considering all comments received during the public comment period.

DATES: Comments. The public comment period on the ADEC submission seeking a one year extension of the transfer of Phase IV will be from the date of publication of this Notice until June 27, 2011. Comments must be received or post-marked by no later than midnight on June 27, 2011.

Public Hearing: EPA will hold a public hearing on June 13, 2011 from 6 p.m. until all testimony is heard or 9 p.m., whichever is earlier. The public hearing will be held in Anchorage, AK. See SUPPLEMENTARY INFORMATION for additional information.

ADDRESSES: You may submit comments by any of the following methods:

Mail: Send paper copies to Hanh Shaw, Office of Water and Watersheds, Mail Stop OWW-130, 1200 Sixth Avenue, Suite 900, Seattle, WA 98101-3140.

E-mail: Send electronic copies to shaw.hanh@epa.gov.

Fax: Fax copies to the attention of Hanh Shaw at (206) 553-0165.

Hand Delivery/Courier: Deliver copies to Hanh Shaw, Office of Water and Watersheds, Mail Stop OWW-130, 1200 Sixth Avenue, Suite 900, Seattle, WA 98101-3140. Call (206) 553-1200 before delivery to verify business hours.

EPA requests that a duplicate copy of comments be sent to Theresa Svancara, theresa.svancara@alaska.gov, Alaska Department of Environmental Conservation, P. O. Box 111800, 410 Willoughby Avenue, Suite 303, Juneau, AK 99811-1800.

Viewing and/or Obtaining Copies of Documents. ADEC has submitted a modified program description and a modified memorandum of agreement (MOA) related to the proposed APDES program revision. There are a number of ways that you may obtain or view the submissions. (1) Copies of ADEC's submissions are available for inspection at the EPA Region 10 Library, Park Place Building, 1200 6th Avenue, Suite 900, Seattle, WA 98101-3140; the library hours are 9 a.m. to noon and 1 p.m. to 4 p.m. Monday through Friday, except Federal holidays, telephone number (206) 553-1289. (2) Copies are available at the EPA, Region 10, Alaska Operations Office, 222 W 7th Avenue, #19, Room 537, Anchorage, AK 99513, during normal business hours; contact Cindi Godsey at (907) 271-6561. (3) The ADEC submissions can be viewed or downloaded from the EPA Web site http://yosemite.epa.gov/r10/water.nsf/NPDES+Permits/apdes. (4) ADEC will have copies of the submissions available for viewing Monday through Friday, 8:30 a.m. to 4:30 p.m., except Alaska holidays, at the following locations: 555 Cordova Street, Anchorage, AK 99501-2617; 410 Willoughby Avenue, Suite 303, Juneau, AK 99811-1800; and 610 University Drive, Fairbanks, AK 99709. (5) The ADEC submissions can be viewed or downloaded from the State of Alaska Web site http://www.dec.state.ak.us/water/npdes/index.htm. (6) Part or all of the ADEC submissions may be copied at EPA or at ADEC. ADEC has no copy fee for 200 or fewer pages and charges .20 per page for more than 200 pages. (7) You may request a copy of all or parts of the ADEC submissions from EPA using the Freedom of Information Act (FOIA) request process. The procedures and costs associated with a FOIA request can be found at the EPA Web site http://www.epa.gov/region10/foia.

Location of Public Hearing: The public hearing will be held on June 13, 2011 at Dena'ina Center, Kahtnu Room, 600 W 7th Avenue, Anchorage, AK. See SUPPLEMENTARY INFORMATION for additional information.

FOR FURTHER INFORMATION CONTACT: Hanh Shaw, Office of Water and Watersheds, U.S. Environmental Protection Agency, Region 10, 1200 6th Avenue, Suite 900, Mail Stop OWW-130, Seattle, WA 98101-3140, (206) 553-0171, shaw.hanh@epa.gov or Cindi Godsey, U.S. Environmental Protection Agency, Region 10, Alaska Operations Office, 222 W 7th Avenue, #19, Anchorage, AK 99513, (907) 271-6561, godsey.cindi@epa.gov.

SUPPLEMENTARY INFORMATION: Section 402 of the CWA created the NPDES program under which EPA may issue permits for the point source discharge of pollutants to waters of the United States under conditions required by the Act. Section 402 also provides that EPA may approve a State to administer an equivalent state program provided the State has appropriate legal authority and a program sufficient to meet the Act's requirements. The regulatory requirements for state program approval are set forth in 40 CFR part 123, and 40 CFR 123.21 lists the basic elements of an approvable application. The NPDES regulations, 40 CFR 123.62, also set forth procedures for revision of approved state programs.

EPA considers the program revision documents submitted by ADEC to be administratively complete at the time of this notice. EPA will not make a final decision on the APDES program revision until after considering all public comments provided during the public comment period and from the public hearing and completion of government to government Tribal consultations, as requested, with Federally recognized Tribes in Alaska.

EPA's approval of the APDES program application on October 31, 2008 authorized ADEC to assume responsibility for the NPDES program in four phases over three years from the date of APDES program approval. ADEC currently has permit administration authority for Phases I-III. These three phases cover the following major components: Phase I includes domestic discharges (excluding the bio-solids program), timber harvesting, seafood processing facilities and hatcheries; Phase II includes Federal facilities, stormwater program, pretreatment program, and miscellaneous non-domestic discharges; and Phase III includes mining. The ADEC phasing schedule authorizes the transfer of Phase IV three years from APDES program approval, or October 31, 2011. Phase IV components include oil and gas, cooling water intakes and dischargers, munitions, and all other remaining facilities not previously transferred in Phases I-III.

By letter dated March 14, 2011, ADEC proposed a delay of the Phase IV transfer for one year, or until October 31, 2012. ADEC also submitted a modified APDES program description and a modified Memorandum of Agreement (MOA) related to the APDES program revision. The program description and MOA submissions were modified to incorporate the proposed one year extension of the Phase IV transfer.

The APDES program description provides a narrative description of the scope, structure, coverage, and processes of the APDES program including a description of the ADEC organization and staffing and administrative procedures for the issuance of permits and administrative or judicial procedures for their review. The only changes being proposed to the program description relate to a one year extension for the transfer of the Phase IV program component and to update the Phase IV permit list. The MOA is a document signed by each agency, committing them to specific responsibilities relevant to the administration and enforcement of the APDES program. The MOA provides structure for ADEC's program management and EPA's program oversight. The only changes being proposed to the MOA relate to a one year extension for the transfer of the Phase IV program component. The ADEC Commissioner and the Regional Administrator will sign the modified MOA if the APDES program revision is determined by EPA to be approvable after all comments received during the comment period have been considered.

After close of the comment period and completion of consultations, the Regional Administrator will make a decision to approve or disapprove the APDES program revision based on the requirements of Section 402 of the CWA and 40 CFR part 123. If the Regional Administrator approves the APDES program revision, the Regional Administrator will so notify ADEC and sign the modified MOA. Notice would be published in the Federal Register and EPA would suspend issuance of NPDES permits in Phase IV in accordance with the approved modified schedule to transfer NPDES program authority for Phase IV. If the Regional Administrator disapproves the APDES program revision, the existing Phase IV transfer date (October 31, 2011) will be retained. ADEC will be notified of the reasons for disapproval and of any revisions or modifications to the program revision that are necessary to obtain approval.

Public Hearing Procedures. The public hearing will be conducted in accordance with 40 CFR 124.12 and will provide interested parties with the opportunity to give written and/or oral comments for the official record. The following procedures will be used at the public hearing. (1) The presiding officer shall conduct the hearing in a manner which will allow all interested persons wishing to make oral statements an opportunity to do so; however, the presiding officer may inform attendees of any time limits during the opening statement of the hearing. (2) Any person may submit written statements or documents for the hearing record. (3) The presiding officer may, in his or her discretion, exclude oral testimony if such testimony is overly repetitious of previous testimony or is not relevant to the decision to approve the submitted APDES program revision to change the date for the transfer of Phase IV. (4) The transcript taken at the hearing, together with copies of all submitted statements and documents, shall become a part of the record submitted to the Regional Administrator. (5) The hearing record shall be left open until the deadline for receipt of comments specified at the beginning of this Notice to allow any person time to submit additional written statements or to present views or evidence tending to rebut testimony presented at the public hearing. (6) Hearing statements may be oral or written. Written copies of oral statements are urged for accuracy of the record and for use of EPA and other interested persons. Persons wishing to make oral testimony supporting their written comments are encouraged to give a summary of their points rather than reading lengthy written comments verbatim into the record. All comments related to the proposed program revision received by EPA Region 10 by the deadline for receipt of comments, or presented at the public hearing, will be considered by EPA before taking final action on the submitted APDES program revision.

Public Comment on the Program Revision. EPA and ADEC encourage public participation in this program revision process. EPA requests the public to review the program revision that ADEC has submitted and provide any comments relevant to the proposed one-year extension for transfer of Phase IV. EPA will consider all comments on the APDES program revision in its decision.

Authority: This action is taken under the authority of Section 402 of the Clean Water Act as amended, 42 U.S.C. 1342. I hereby provide public notice of the State of Alaska APDES program revision in accordance with 40 CFR 123.62.

Dated: May 5. 2011.
Dennis McLerran,
Regional Administrator, Region 10.

[FR Doc. 2011-11728 Filed 5-12-11; 8:45 am]

BILLING CODE 6560-50-P